DEPARTMENT OF HOMELAND SECURITY

U.S. Customs and Border Protection

Announcement of National Customs Automation Program (NCAP) Test Concerning the Submission Through the Automated Commercial Environment (ACE) of Certain Import Data and Documents Required by the U.S. Fish and Wildlife Service

AGENCY: U.S. Customs and Border Protection, Department of Homeland Security.

ACTION: General notice.

SUMMARY: This document announces U.S. Customs and Border Protection's (CBP) plan, developed in consultation with the U.S. Fish and Wildlife Service (FWS), to conduct a National Customs Automation Program (NCAP) test concerning the electronic transmission of certain import data and documents for commodities regulated by FWS. Under this test, the data or documents will be transmitted electronically through CBP's Document Image System (DIS) or CBP's Automated Broker Interface (ABI) system using the Partner Government Agency (PGA) Message Set, for processing in CBP's Automated Commercial Environment (ACE).

DATES: The FWS PGA Message Set test will begin no earlier than May 1, 2016. This test will continue until concluded by way of announcement in the Federal Register. Public comments are invited and will be accepted through the duration of the test pilot.

ADDRESSES: Comments concerning this notice and any aspect of this test may be submitted at any time during the test via email to Josephine Baiamonte, ACE Business Office (ABO), Office of International Trade, at josephine.baiamonte@cbp.dhs.gov. In the subject line of your email, please indicate, “Comment on FWS PGA Message Set Test FRN.”

FOR FUTHER INFORMATION CONTACT: For PGA-related questions, contact Elizabeth McQueen at elizabeth.mcqueen@cbp.dhs.gov. For technical questions related to the Automated Commercial Environment (ACE) or Automated Broker Interface (ABI) transmissions, contact your assigned client representative. Interested parties without an assigned client representative should direct their questions to Steven Zaccaro at steven.j.zaccaro@cbp.dhs.gov with the subject heading “PGA Message Set FWS Test FRN-Request to Participate.” For FWS-related questions, contact Tamesha Woulard, Senior Wildlife Inspector, Office of Law Enforcement (Headquarters), U.S. Fish and Wildlife Service, at Tamesha_Woulard@fws.gov.

SUPPLEMENTARY INFORMATION:

I. Background

The National Customs Automation Program (NCAP) was established in Subtitle B of Title VI—Customs Modernization (“Customs Modernization Act”), in the North American Free Trade Agreement Implementation Act (Pub. L. 103-182, 107 Stat. 2057, Dec. 8. 1993) (19 U.S.C. 1411). Through NCAP, the thrust of customs modernization has been on trade compliance and the development of the Automated Commercial Environment (ACE), the planned successor Electronic Data Interchange (EDI) system to the Automated Commercial System (ACS). ACE is an automated and electronic system for processing commercial trade data. ACE is intended to streamline business processes, facilitate growth in trade, ensure cargo security, and foster participation in global commerce, while ensuring compliance with U.S. laws and regulations and reducing costs for U.S. Customs and Border Protection (CBP) and all of its communities of interest. The ability to meet these objectives depends on successfully modernizing CBP's business functions and the information technology that supports those functions. The Automated Broker Interface (ABI) is the EDI that enables members of the trade community to file electronically required import data with CBP and transfer that data to ACE.

For the convenience of the public, a chronological listing of Federal Register publications detailing ACE test developments is set forth below in Section XV, entitled, “Development of ACE Prototypes.” The procedures and criteria related to participation in the prior ACE test pilots remain in effect unless otherwise explicitly changed by this or subsequent notices published in the Federal Register.

II. Authorization for the Test

The Customs Modernization Act provisions provide the Commissioner of CBP with authority to conduct limited test programs or procedures designed to evaluate planned components of the NCAP. The test described in this notice is authorized pursuant to § 101.9(b) of title 19 of the Code of Federal Regulations (19 CFR 101.9(b)) which provides for the testing of NCAP programs or procedures. See Treasury Decision (T.D.) 95-21, 60 FR 14211 (March 16, 1995).

III. International Trade Data System (ITDS) and ACE

This test is in furtherance of the International Trade Data System (ITDS) key initiatives, set forth in section 405 of the Security and Accountability for Every Port Act of 2006 (“SAFE Port Act”)(Sec. 405, Pub. L. 109-347, 120 Stat. 1884, Oct. 13, 2006) (19 U.S.C. 1411(d)), to achieve the vision of ACE as the “single window” for the U.S. government and trade community. The purpose of ITDS, as stated in section 405 of the SAFE Port Act, is to eliminate redundant information requirements, efficiently regulate the flow of commerce, and effectively enforce laws and regulations relating to international trade, by establishing a single portal system, operated by CBP, for the collection and distribution of standard electronic import and export data required by all participating Federal agencies. CBP is developing ACE as the “single window” for the trade community to transmit electronically all required information related to the merchandise that is imported or exported and to comply with the ITDS requirement established by the SAFE Port Act. On October 13, 2015, CBP promulgated regulations providing that, as of November 1, 2015, ACE is a CBP authorized EDI system which may be used for the filing of entries and entry summaries. See 80 FR 61278 (October 13, 2015).

Executive Order 13659, Streamlining the Export/Import Process for America's Businesses, 79 FR 10657 (February 25, 2014), requires that by December 31, 2016, ACE, as the ITDS “single window,” have the operational capabilities to serve as the primary means of receiving from users the standard set of data and other relevant documentation (exclusive of applications for permits, licenses, or certifications) required for the release of imported cargo and clearance of cargo for export, and to transition from most paper-based requirements and procedures to faster and more cost-effective electronic submissions to, and communications with, U.S. government agencies.

IV. Partner Government Agency (PGA) Message Set and Document Image System (DIS)

On December 13, 2013, CBP published in the Federal Register a notice announcing an NCAP test called the Partner Government Agency (PGA) Message Set test. See 78 FR 75931 (December 13, 2013). The PGA Message Set is the data needed to satisfy the PGA reporting requirements. ACE enables the message set by acting as the “single window” for the electronic transmission to CBP of trade-related data required by the PGAs. After validation, the data will be made available to the relevant PGAs involved in regulating the importation of the merchandise. The data will be used to fulfill merchandise entry requirements and may allow for earlier release decisions and more certainty for the importer in determining the logistics of cargo delivery. Also, by virtue of being electronic, the PGA Message Set will eliminate the necessity for the submission and subsequent handling of most paper documents.

On April 6, 2012, CBP announced the Document Image System (DIS) test (77 FR 20835) allowing any party who files an ACE entry/cargo release or ACE Entry Summary certified for cargo release to submit electronically digital copies of specified CBP and PGA forms and documents via a CBP-approved EDI (ABI). On October 15, 2015, CBP announced it would permit any DIS-eligible form or document to be submitted as an attachment to an email. See 80 FR 62082. As CBP frequently updates the list of forms and documents eligible to be transmitted using DIS, the complete list will be maintained on the CBP Web site, at the following address: http://www.cbp.gov/trade/ace/features under the DIS tab. Only eligible documents and forms required for the release of merchandise or requested by CBP should be transmitted using DIS. Forms and documents transmitted using DIS may be transmitted without a prior request from CBP or the relevant PGA. ACE will automatically acknowledge every successful DIS transmission. This automated acknowledgement of successful transmission does not mean the correct or required form or document was transmitted as it occurs prior to any review of the transmitted form or document. Any form or document submitted via DIS is an electronic copy of an original document or form and both the original and the imaged copy are subject to the recordkeeping requirements of 19 CFR part 163 and any other applicable PGA recordkeeping requirements. Every form or document transmitted through DIS must be legible and must be a complete, accurate, and unaltered copy of the original document. For more information and the rules, procedures, technical requirements and terms and conditions applicable to the DIS, please see the DIS Federal Register notice at 80 FR 62082 (October 15, 2015).

V. The U.S. Fish and Wildlife Service PGA Message Set and DIS Test

The U.S. Fish and Wildlife Service (FWS) is authorized by the Endangered Species Act of 1973, as amended (16 U.S.C. 1531 et. seq.), to regulate and collect information on the importation and exportation of wildlife. Under the applicable FWS regulations, the importation of wildlife and commodities containing wildlife into the customs territory of the United States typically requires the submission of a “Declaration for Importation or Exportation of Fish or Wildlife” (“Declaration”) (FWS Form 3-177), as well as any required original permits or certificates and copies of any other documents required under the FWS regulations (see 50 CFR part 14).

This notice announces CBP's plan to conduct a test concerning the electronic transmission of the data contained in the Declaration to ACE using the PGA Message Set and the transmission of documents via DIS. FWS currently uses its own Internet-based filing system for the electronic submission of the Declaration and accompanying documents. This system is known as “eDecs.” Under this test, ACE will replace eDecs for those test participants filing entries under the auspices of this test. As part of the test, ACE will be used to receive the data contained in the Declaration using the PGA Message Set and DIS will be used for the accompanying documents. ACE will send the data and electronic documents to FWS for processing. Consequently, test participants must use ACE rather than eDecs to electronically transmit the data in the Declaration and any documents normally transmitted through eDecs.

This new FWS PGA Message Set and DIS capability will satisfy the FWS data and electronic document requirements for any CBP entry filed electronically in ACE, except original “Convention on International Trade in Endangered Species of Wild Fauna and Fauna” (“CITES”) and foreign-law paper documents, which will continue to be submitted directly to the FWS office at the applicable port. This new capability will also enable the trade community to have a CBP-managed “single window” for the submission of data and electronic documents required by the FWS during the cargo importation and review process. The technical requirements for submitting FWS data elements are set forth in the supplemental Customs and Trade Automated Interface Requirements (CATAIR) guidelines for the FWS. These technical requirements, including the ACE CATAIR chapter, may be found at the following link: http://www.cbp.gov/trade/ace/catair.

The list of forms and documents, including FWS documents, which may be transmitted using DIS may be found at http://www.cbp.gov/trade/ace/features under the DIS tab. The FWS documents eligible to be transmitted using DIS include the documents associated with commodities regulated by FWS (e.g., invoices, packing lists, and bills of lading); commodity specific documents (i.e., health certificates, wildlife inventories, skin tag or tattoo lists, and caviar labeling information); transportation-related documents; and copies of other agency documents that are currently uploaded directly into eDecs.

For the test participants, this test will apply to all entries filed in ACE. Entries filed in ACE with the PGA Message Set must be transmitted using a software program that has completed ACE certification testing. This test will apply to all commodities and articles regulated by FWS that require a CBP entry for consumption. Test participants may not use this test for FWS-regulated commodities that do not require a CBP entry for consumption, such as goods admitted into a foreign trade zone or other areas of U.S. jurisdiction considered outside the customs territory of the United States for tariff and entry purposes; international mail; or articles in the possession of passengers arriving into the United States. Participants should continue to file directly with the FWS for such shipments of FWS-regulated commodities. This test applies to all modes of cargo transportation, and it is limited to the ports of entry where FWS-regulated commodities may be imported. A list of the ports that may be used to enter FWS-regulated commodities under this test may be found at the following link: http://www.fws.gov/le/inspection-offices.html. FWS port requirements still apply during this test, including the requirement for prior authorization to use a port other than a designated FWS port.

VI. Test Participant Responsibilities

Test participants will be required to:

(1) Transmit the Declaration data electronically to ACE, when filing an entry in ACE, using the PGA Message Set data procedures, at any time prior to the arrival of the merchandise on the conveyance transporting the cargo to the United States;

(2) Refrain from filing the Declaration data or documents in eDecs when transmitting it to ACE;

(3) Transmit required permits or documents using DIS;

(4) Submit original CITES and foreign-law paper documents directly to the FWS office at the applicable port;

(5) Use a software program that has completed ACE certification testing for the PGA Message Set; and

(6) Take part in a CBP-FWS evaluation of this test.

VII. Waiver of Regulation Under the Test

For purposes of this test, those provisions of 19 CFR parts 10 and 12 that are inconsistent with the terms of this test are waived for test participants only. See 19 CFR 101.9(b). This document does not waive any recordkeeping requirements found in part 163 of title 19 of the Code of Federal Regulations (19 CFR part 163) and the Appendix to part 163 (commonly known as the “(a)(1)(A) list”). This test also does not waive any FWS requirements under 50 CFR part 14.

VIII. Test Participation and Selection Criteria

To be eligible to apply for this test, the applicant must:

(1) Be a self-filing importer who has the ability to file ACE entry/cargo release and ACE Entry Summaries certified for cargo release or a broker who has the ability to file ACE entry/cargo release and ACE Entry Summaries certified for cargo release;

(2) File Declarations for FWS-regulated commodities; and

(3) Have an FWS eDecs filer account that contains the CBP filer code.

Test participants must meet all the eligibility criteria described in this document in order to participate in the test program.

IX. Application Process

Any party seeking to participate in the FWS PGA Message Set and DIS test should email its CBP Client Representative, ACE Business Office (ABO), Office of International Trade with the subject heading “Request to Participate in the FWS PGA Message Test.” Interested parties without an assigned client representative should submit an email message to Steven Zaccaro at steven.j.zaccaro@cbp.dhs.gov with the subject heading “PGA Message Set FWS Test FRN—Request to Participate.”

Email messages sent to the CBP client representative or Steven Zaccaro must include the applicant's filer code; the commodities the applicant intends to import; and the intended ports of arrival. Client representatives will work with test participants to provide information regarding the transmission of this data.

CBP will begin to accept applications upon the date of publication of this notice and will continue to accept applications throughout the duration of the test. CBP will notify the selected applicants by an email message of their selection and the starting date of their participation. Selected participants may have different starting dates. Anyone providing incomplete information, or otherwise not meeting participation requirements, will be notified by an email message and given the opportunity to resubmit its application. There is no limit on the number of participants.

X. Test Duration

The initial phase of the pilot test will begin no earlier than May 1, 2016. At the conclusion of the test pilot, an evaluation will be conducted to assess the effect that the FWS PGA Message Set has on expediting the submission of FWS importation-related data elements and the processing of FWS-related entries. The final results of the evaluation will be published in the Federal Register and the Customs Bulletin as required by § 101.9(b)(2) of the CBP regulations (19 CFR 101.9(b)(2)). Any modification of this test or future expansion of ACE will be announced via a separate Federal Register notice.

XI. Comments

All interested parties are invited to comment on any aspect of this test at any time. CBP requests comments and feedback on all aspects of this test, including the design, conduct and implementation of the test, in order to determine whether to modify, alter, expand, limit, continue, end, or fully implement this program.

XII. Paperwork Reduction Act

The collection of information contained in this FWS PGA Message Set test has been approved by the Office of Management and Budget (OMB) in accordance with the requirements of the Paperwork Reduction Act (44 U.S.C. 3507) and assigned OMB control number 1018-0012. An agency may not conduct or sponsor, and a person is not required to respond to, a collection of information unless it displays a valid control number assigned by OMB.

XIII. Confidentiality

All data submitted and entered into ACE may be subject to the Trade Secrets Act (18 U.S.C. 1905) and is considered confidential by CBP, except to the extent as otherwise provided by law. The Electronic Export Information (EEI) is also subject to the confidentiality provisions of 15 CFR 30.60. As stated in previous notices, participation in these or any of the previous ACE tests is not confidential and upon a written Freedom of Information Act (FOIA) request, a name(s) of an approved participant(s) will be disclosed by CBP in accordance with 5 U.S.C. 552.

XIV. Misconduct Under the Test

A test participant may be subject to civil and criminal penalties, administrative sanctions, liquidated damages, or discontinuance from participation in this test for any of the following:

(1) Failure to follow the terms and conditions of this test;

(2) Failure to exercise reasonable care in the execution of participant obligations;

(3) Failure to abide by applicable laws and regulations that have not been waived; or

(4) Failure to deposit duties or fees in a timely manner.

If the Director, Business Transformation, ACE Business Office (ABO), Office of International Trade, finds that there is a basis for discontinuance of test participation privileges, the test participant will be provided a written notice proposing the discontinuance with a description of the facts or conduct warranting the action. The test participant will be offered the opportunity to appeal the Director's decision in writing within ten (10) calendar days of receipt of the written notice. The appeal must be submitted to Executive Director, ABO, Office of International Trade, by emailing Deborah.Augustin@cbp.dhs.gov.

The Executive Director will issue a decision in writing on the proposed action within thirty (30) working days after receiving a timely filed appeal from the test participant. If no timely appeal is received, the proposed notice becomes the final decision of the Agency as of the date that the appeal period expires. A proposed discontinuance of a test participant's privileges will not take effect unless the appeal process under this paragraph has been concluded with a written decision adverse to the test participant.

In instances of willfulness or those in which public health, interest, or safety so requires, the Director, Business Transformation, ABO, Office of International Trade, may immediately discontinue the test participant's privileges upon written notice to the test participant. The notice will contain a description of the facts or conduct warranting the immediate action. The test participant will be offered the opportunity to appeal the Director's decision within ten (10) calendar days of receipt of the written notice providing for immediate discontinuance. The appeal must be submitted to Executive Director, ABO, Office of International Trade, by emailing Deborah.Augustin@cbp.dhs.gov. The immediate discontinuance will remain in effect during the appeal period. The Executive Director will issue a decision in writing on the discontinuance within fifteen (15) working days after receiving a timely filed appeal from the test participant. If no timely appeal is received, the notice becomes the final decision of the Agency as of the date that the appeal period expires.

XV. Developments of ACE Prototypes

A chronological listing of Federal Register publications detailing ACE test developments is set forth below.

• ACE Portal Accounts and Subsequent Revision Notices: 67 FR 21800 (May 1, 2002); 69 FR 5360 and 69 FR 5362 (February 4, 2004); 69 FR 54302 (September 8, 2004): 70 FR 5199 (February 1, 2005).

• ACE System of Records Notice: 71 FR 3109 (January 19, 2006).

• Terms/Conditions for Access to the ACE Portal and Subsequent Revisions: 72 FR 27632 (May 16, 2007); 73 FR 38464 (July 7, 2008).

• ACE Non-Portal Accounts and Related Notice: 70 FR 61466 (October 24, 2005); 71 FR 15756 (March 29, 2006).

• ACE Entry Summary, Accounts and Revenue (ESAR I) Capabilities: 72 FR 59105 (October 18, 2007).

• ACE Entry Summary, Accounts and Revenue (ESAR II) Capabilities: 73 FR 50337 (August 26, 2008); 74 FR 9826 (March 6, 2009).

• ACE Entry Summary, Accounts and Revenue (ESAR III) Capabilities: 74 FR 69129 (December 30, 2009).

• ACE Entry Summary, Accounts and Revenue (ESAR IV) Capabilities: 76 FR 37136 (June 24, 2011).

• Post-Entry Amendment (PEA) Processing Test: 76 FR 37136 (June 24, 2011).

• ACE Announcement of a New Start Date for the National Customs Automation Program Test of Automated Manifest Capabilities for Ocean and Rail Carriers: 76 FR 42721 (July 19, 2011).

• ACE Simplified Entry: 76 FR 69755 (November 9, 2011).

• National Customs Automation Program (NCAP) Tests Concerning Automated Commercial Environment (ACE) Document Image System (DIS): 77 FR 20835 (April 6, 2012).

• National Customs Automation Program (NCAP) Tests Concerning Automated Commercial Environment (ACE) Simplified Entry: Modification of Participant Selection Criteria and Application Process: 77 FR 48527 (August 14, 2012).

• Modification of NCAP Test Regarding Reconciliation for Filing Certain Post-Importation Preferential Tariff Treatment Claims under Certain FTAs: 78 FR 27984 (May 13, 2013).

• Modification of Two National Customs Automation Program (NCAP) Tests Concerning Automated Commercial Environment (ACE) Document Image System (DIS) and Simplified Entry (SE): 78 FR 44142 (July 23, 2013).

• Modification of Two National Customs Automation Program (NCAP) Tests Concerning Automated Commercial Environment (ACE) Document Image System (DIS) and Simplified Entry (SE); Correction: 78 FR 53466 (August 29, 2013).

• Modification of NCAP Test Concerning Automated Commercial Environment (ACE) Cargo Release (formerly known as Simplified Entry): 78 FR 66039 (November 4, 2013).

• Post-Summary Corrections to Entry Summaries Filed in ACE Pursuant to the ESAR IV Test: Modifications and Clarifications: 78 FR 69434 (November 19, 2013).

• National Customs Automation Program (NCAP) Test Concerning the Submission of Certain Data Required by the Environmental Protection Agency and the Food Safety and Inspection Service Using the Partner Government Agency Message Set Through the Automated Commercial Environment (ACE): 78 FR 75931 (December 13, 2013).

• Modification of National Customs Automation Program (NCAP) Test Concerning Automated Commercial Environment (ACE) Cargo Release for Ocean and Rail Carriers: 79 FR 6210 (February 3, 2014).

• Modification of National Customs Automation Program (NCAP) Test Concerning Automated Commercial Environment (ACE) Cargo Release to Allow Importers and Brokers to Certify From ACE Entry Summary: 79 FR 24744 (May 1, 2014).

• Modification of National Customs Automation Program (NCAP) Test Concerning Automated Commercial Environment (ACE) Cargo Release for Truck Carriers: 79 FR 25142 (May 2, 2014).

• Modification of National Customs Automation Program (NCAP) Test Concerning Automated Commercial Environment (ACE) Document Image System: 79 FR 36083 (June 25, 2014).

• Announcement of eBond Test: 79 FR 70881 (November 28, 2014).

• eBond Test Modifications and Clarifications: Continuous Bond Executed Prior to or Outside the eBond Test May Be Converted to an eBond by the Surety and Principal, Termination of an eBond by Filing Identification Number, and Email Address Correction: 80 FR 899 (January 7, 2015).

• Modification of National Customs Automation Program (NCAP) Test Concerning Automated Commercial Environment (ACE) Document Image System Relating to Animal and Plant Health Inspection Service (APHIS) Document Submissions: 80 FR 5126 (January 30, 2015).

• Modification of National Customs Automation Program (NCAP) Test Concerning the use of Partner Government Agency Message Set through the Automated Commercial Environment (ACE) for the Submission of Certain Data Required by the Environmental Protection Agency (EPA): 80 FR 6098 (February 4, 2015).

• Announcement of Modification of ACE Cargo Release Test to Permit the Combined Filing of Cargo Release and Importer Security Filing (ISF) Data: 80 FR 7487 (February 10, 2015).

• Modification of National Customs Automation Program (NCAP) Test Concerning Automated Commercial Environment (ACE) Cargo Release for Type 03 Entries and Advanced Capabilities for Truck Carriers: 80 FR 16414 (March 27, 2015).

• Automated Commercial Environment (ACE) Export Manifest for Air Cargo Test: 80 FR 39790 (July 10, 2015).

• National Customs Automation Program (NCAP) Concerning Remote Location Filing Entry Procedures in the Automated Commercial Environment (ACE) and the Use of the Document Image System for the Submission of Invoices and the Use of eBonds for the Transmission of Single Transaction Bonds: 80 FR 40079 (July 13, 2015).

• Modification of National Customs Automation Program (NCAP) Test Concerning the Automated Commercial Environment (ACE) Partner Government Agency (PGA) Message Set Regarding Types of Transportation Modes and Certain Data Required by the National Highway Traffic Safety Administration (NHTSA): 80 FR 47938 (August 10, 2015).

• ACE Export Manifest for Vessel Cargo Test: 80 FR 50644 (August 20, 2015).

• Modification of National Customs Automation Program (NCAP) Test Concerning the Submission of Certain Data Required by the Food and Drug Administration (FDA) Using the Partner Government Agency (PGA) Message Set Through the Automated Commercial Environment (ACE): 80 FR 52051 (August 27, 2015).

• ACE Export Manifest for Rail Cargo Test: 80 FR 54305 (September 9, 2015).

• Automated Commercial Environment (ACE) Fillings for Electronic Entry/Entry Summary (Cargo Release and Related Entry): 80 FR 61278 (October 13, 2015).

• Modification of the National Customs Automation Program (NCAP) Test Concerning the Automated Commercial Environment (ACE) Document Image System (DIS) Regarding Future Updates and New Method of Submission of Accepted Documents: 80 FR 62082 (October 15, 2015).

• Modification of National Customs Automation Program (NCAP) Test Concerning Automated Commercial Environment (ACE) Cargo Release Test for Entry Type 52 and Certain Other Modes of Transportation: 80 FR 63576 (October 20, 2015).

• Modification of National Customs Automation Program (NCAP) Test Concerning the Automated Commercial Environment (ACE) Portal Account Test to Establish the Exporter Portal Account: 80 FR 63817 (October 21, 2015).

• Modification of National Customs Automation Program (NCAP) Test Concerning Automated Customs Environment (ACE) Entry Summary, Accounts and Revenue (ESAR) Test of Automated Entry Summary Types 51 and 52 and Certain Modes of Transportation: 80 FR 63815 (October 21, 2015).

• Modification of National Customs Automation Program (NCAP) Test Concerning the Automated Commercial Environment (ACE) Partner Government Agency (PGA) Message Set Regarding the Toxic Substances Control Act (TSCA) Certification Required by the Environmental Protection Agency (EPA): 81 FR 7133 (February 10, 2016).

• Modification of the National Customs Automation Program (NCAP); Test Concerning the Partner Government Agency Message Set for Certain Data Required by the Environmental Protection Agency (EPA): 81 FR 13399 (March 14, 2016).

Dated: April 29, 2016.
Cynthia F. Whittenburg,
Acting Deputy Executive Assistant Commissioner, Office of Trade.

[FR Doc. 2016-10522 Filed 5-4-16; 8:45 am]

BILLING CODE 9111-14-P